ENVIRONMENTAL PROTECTION AGENCY

[FRL-9924-34-OA]

Notification of a Teleconference and a Face-to-Face Meeting of the Science Advisory Board Economy-Wide Modeling Panel

AGENCY: Environmental Protection Agency (EPA).

ACTION: Notice.

SUMMARY: The Environmental Protection Agency (EPA or Agency) Science Advisory Board (SAB) Staff Office announces a public teleconference of the SAB Economy-Wide Modeling Panel. The SAB Staff Office also announces a public face-to-face meeting of the SAB Economy-Wide Modeling Panel.

DATES: The public teleconference will be held on July 15, 2015 from 2:00 p.m. to 5:00 p.m. (Eastern Time). The public face-to-face meeting will be held on October 22 and 23, 2015 from 9:00 a.m. to 5:00 p.m. each day (Eastern Time).

ADDRESSES: The teleconference will be held by telephone only. The face-to-face meeting will take place at the George Washington University, Milken Institute School of Public Health, Convening Center A and B, 950 New Hampshire Avenue NW., Washington, DC 20052. The public also can view the October 22 and 23, 2015 meeting via a non-interactive, live webcast that will be broadcast on the internet. The connection information to view the webcast will be provided on the meeting Web page at the time of the meeting. The meeting Web page may be found by going to http://epa.gov/sab and clicking on the calendar then the meeting date.

FOR FURTHER INFORMATION CONTACT: Any member of the public wishing further information regarding the public teleconference or public meeting may contact Dr. Holly Stallworth, Designated Federal Officer (DFO), SAB Staff Office, by telephone/voice mail at (202) 564-2073 or via email at stallworth.holly@epa.gov. General information concerning the EPA Science Advisory Board can be found at the EPA SAB Web site at http://epa.gov/sab.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Economy-Wide Modeling Panel will hold a public teleconference to receive a background briefing from EPA's National Center for Environmental Economics and the Office of Air and Radiation on economic analysis for air regulations at EPA and challenges for the potential use of economy-wide modeling in this context. The teleconference will provide an orientation for the public and the Panel on EPA's draft final charge and annotated outlines of several white papers to be authored by EPA. Subsequently, the SAB Economy-Wide Modeling Panel will hold a face-to-face meeting on October 22 and 23, 2015 to deliberate on EPA's charge questions. The EPA-authored white papers will be provided to the Panel and the public prior to the October face-to-face meeting. The October 22 and 23, 2015 face-to-face meeting will address the first two sections of the charge, on social costs and benefits. The remaining two sections, on economic impact analysis and results interpretation, will be discussed at a subsequent face-to-face meeting to be scheduled. At the October 22 and 23, 2015 face-to-face meeting, EPA's National Center for Environmental Economics and the Office of Air and Radiation will also provide background briefings specific to the charge. The SAB will comply with the provisions of FACA and all appropriate SAB Staff Office procedural policies. Background information on the SAB Economy-Wide Modeling Panel can be found at http://yosemite.epa.gov/sab/sabproduct.nsf/fedrgstr_activites/Economywide%20modeling?OpenDocument.

Availability of the meeting materials: Agendas will be posted on the SAB Web site prior to the July 15, 2015 teleconference and the October 22 and 23, 2015 face-to-face meeting. To locate meeting materials, go to http://epa.gov/sab and click on the calendar and then the respective meeting dates. EPA's review document(s), charge to the Panel and other background materials are also available at the URL above. For questions concerning EPA's review materials on economy-wide modeling, please contact Dr. Ann Wolverton, EPA National Center for Environmental Economics at wolverton.ann@epa.gov or 202-566-2278.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation at the meeting will be limited to five minutes per speaker for the face-to-face meeting and three minutes per speaker for the teleconference. Interested parties should contact Dr. Holly Stallworth, DFO, in writing (preferably via email), at the contact information noted above, by July 6, 2015 to be placed on the list of public speakers for the teleconference and by October 13, 2015 to be placed on the list of speakers for the face-to-face meeting.

Written Statements: Written statements should be received in the SAB Staff Office by July 6, 2015 to be considered for the teleconference and by October 13, 2015 to be considered for the face-to-face meeting. Written statements should be supplied to the DFO, preferably in electronic format via email. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Stallworth at the phone number or email address noted above, preferably at least ten days prior to the meeting, to give EPA as much time as possible to process your request.

Dated: March 3, 2015.
Thomas H. Brennan,
Deputy Director, EPA Science Advisory Board Staff Office.

[FR Doc. 2015-05801 Filed 3-12-15; 8:45 am]

BILLING CODE 6560-50-P